DEPARTMENT OF JUSTICE

Drug Enforcement Administration

Manufacturer of Controlled Substances; Notice of Application

Pursuant to § 1301.33(a), Title 21 of the Code of Federal Regulations (CFR), this is notice that on July 18, 2011, Cambrex Charles City, Inc., 1205 11th Street, Charles City, Iowa 50616, made application by letter to the Drug Enforcement Administration (DEA) to be registered as a bulk manufacturer of the following basic classes of controlled substances:

Drug | Schedule
Noroxymorphone (9668) | II
Alfentanil (9737) | II
Remifentanil (9739) | II

The company plans to manufacture the listed controlled substance Noroxymorphone (9668), in bulk for sale to its customers. It plans to manufacture the other two listed controlled substances in bulk for dosage form development, clinical trials, and use in stability qualification studies.

Any other such applicant, and any person who is presently registered with DEA to manufacture such substances, may file comments or objections to the issuance of the proposed registration pursuant to 21 CFR 1301.33(a).

Any such written comments or objections should be addressed, in quintuplicate, to the Drug Enforcement Administration, Office of Diversion Control, Federal Register Representative (ODL), 8701 Morrissette Drive, Springfield, Virginia 22152; and must be filed no later than December 6, 2011.

Dated: September 27, 2011.
Joseph T. Rannazzisi,
Deputy Assistant Administrator, Office of Diversion Control, Drug Enforcement Administration.

[FR Doc. 2011-26057 Filed 10-6-11; 8:45 am]

BILLING CODE 4410-09-P